GENERAL SERVICES ADMINISTRATION

[Notice-PBS-2012-02; Docket No. 2012-0002; Sequence 8]

Record of Decision for the Department of Homeland Security Headquarters Consolidation at St. Elizabeths Master Plan Amendment in Southeast, Washington, DC

AGENCY: General Services Administration (GSA), National Capital Region (NCR).

ACTION: Record of decision.

SUMMARY: Pursuant to the requirements of the National Environmental Policy Act of 1969 (NEPA), 42 U.S.C. 4321-4347, the Council on Environmental Quality Regulations (40 CFR parts 1500-1508), and the GSA Public Buildings Service NEPA Desk Guide, dated October 1999, on May 17, 2012, GSA issued a Record of Decision (ROD) to the DHS Headquarters Consolidation at St. Elizabeths Master Plan Amendment Final Environmental Impact Statement (EIS), to implement alternatives for a new 750,000 gross square foot Federal Emergency Management Agency (FEMA) facility plus parking on the St. Elizabeths East Campus; improvements to the Martin Luther King, Jr. Avenue (MLK Avenue) in front of and south of the campus to Alabama Avenue; and improvements to the interchange of Malcolm X Avenue and I-295. The complete Record of Decision can be viewed on the project Web site www.stelizabethsdevelopment.com.

DATES: Effective date: May 30, 2012.

FOR FURTHER INFORMATION CONTACT: Ms. Denise Decker, NEPA Lead, General Services Administration, National Capital Region, at (202) 538-5643 or email denise.decker@gsa.gov.

SUPPLEMENTARY INFORMATION: Decision: It is the decision of the Regional Commissioner and Regional Administrator of GSA, NCR, and in support of DHS, to approve the Master Plan Amendment ROD and thereby implement the Preferred Alternative for the FEMA facility, improvements to MLK Avenue and improvements to the interchange of Malcolm X Avenue and I-295.

Although GSA has selected a Preferred Alternative that includes implementation of improvements to I-295, it is a public facility under FHWA's and DDOT's jurisdiction and, as such, the final design will be coordinated with FHWA for their approval. FHWA and DDOT will also assume maintenance responsibilities of the publicly owned elements of the I-295/Malcolm X Avenue interchange and its associated transportation improvements outside of the St. Elizabeths Campus upon completion of construction activities. Similarly, MLK Avenue is under DDOT's jurisdiction, so the final design will be coordinated with DDOT for their approval. DDOT will continue to have maintenance responsibilities of these transportation improvements. Development of these alternatives will be guided by the Overall Development Phasing schedule included in the Master Plan Amendment.

This decision is based on information and analyses contained in the following:

• 2010 Draft Master Plan Amendment EIS

• 2012 Final Master Plan Amendment EIS

• 2012 St. Elizabeths TTR

• 2012 St. Elizabeths TMP

• Comments from Federal and state agencies, stakeholder organizations, members of the public, elected officials, and other information in the project administrative record.

Issued: May 17, 2012.
Cathleen Kronopolus,
Regional Commissioner.
Julia E. Hudson,
Regional Administrator, General Services Administration, National Capital Region.
Dated: May 23, 2012.
Dawud Abdur-Rahman,
Director, Planning and Management, Office of Planning and Design Quality, General Services Administration, Public Buildings Service, National Capital Region.

[FR Doc. 2012-13053 Filed 5-29-12; 8:45 am]

BILLING CODE 6820-23-P